INTERNATIONAL TRADE COMMISSION

[Investigation No. 337-TA-1440]

Certain Motorized Self-Balancing Vehicles; Notice of a Commission Determination Not To Review an Initial Determination Granting a Motion To Amend the Complaint and Notice of Investigation

AGENCY: U.S. International Trade Commission.

ACTION: Notice.

SUMMARY: Notice is hereby given that the U.S. International Trade Commission has determined not to review an initial determination (“ID”) (Order No. 10) of the presiding administrative law judge (“ALJ”), granting an unopposed motion to amend the complaint and notice of investigation (“NOI”) by adding a new respondent, Zhejiang TaoTao Vehicles Co., Ltd. (“Tao Motor”).

FOR FURTHER INFORMATION CONTACT: Cathy Chen, Office of the General Counsel, U.S. International Trade Commission, 500 E Street SW, Washington, DC 20436, telephone 202-205-2392. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on February 26, 2025, based on a complaint filed on behalf of Razor USA LLC of Cerritos, California and Shane Chen of Camas, Washington (collectively, “Complainants”). 90 FR 10,730 (Feb. 26, 2025). The complaint, as amended, alleges violations of section 337 of the Tariff Act of 1930, as amended, 19 U.S.C. 1337, in the importation into the United States, the sale for importation, or the sale within the United States after importation of certain motorized self-balancing vehicles by reason of the infringement of certain claims of U.S. Patent No. RE46,964; U.S. Patent No. RE49,608; and U.S. Patent No. D739,906. Id. The complaint further alleges that an industry in the United States exists or is in the process of being established as required by the applicable Federal Statute. Id. The Commission's notice of investigation named five respondents: Golabs Inc. d/b/a Gotrax of Carrollton, Texas; Dongguan Saibotan Nengyuan Keji Co., Ltd. d/b/a “Gyroor US” of Guangdong, China; Gyroor Technology (CHINA) Co., Ltd. d/b/a Gyroor of Guangdong, China; Shenzhen Chitado Technology Co., Ltd. d/b/a Gyroor of Guangdong, China; and Unicorn Network, LLC. d/b/a Sisigad (“Sisigad”) of Dover, Delaware. Id.

Respondent Sisigad has been found in default. Order No. 7 (Apr. 16, 2025), unreviewed by Comm'n Notice (May 5, 2025).

On April 30, 2025, Complainants filed an unopposed motion to amend the complaint and NOI by adding a new respondent, Tao Motor, of Lishui City, China. The motion argued that good cause exists to add Tao Motor as a respondent and there is no prejudice to any party or the public interest by adding Tao Motor to the investigation.

On May 13, 2025, the ALJ issued the subject ID (Order No. 10), finding good cause to grant Complainants' unopposed motion to amend the complaint and NOI by adding Tao Motor. The ALJ found there is good cause to add Tao Motor as a respondent to this investigation and that the amendments will not prejudice any of the parties or the public interest. Order No. 10 at 2. No petitions for review were filed.

The Commission has determined not to review the subject ID. Accordingly, Tao Motor is hereby added as a respondent to this investigation.

The Commission vote for this determination took place on June 3, 2025.

The authority for the Commission's determination is contained in section 337 of the Tariff Act of 1930, as amended, 19 U.S.C. 1337, and in Part 210 of the Commission's Rules of Practice and Procedure, 19 CFR part 210.

By order of the Commission.
Issued: June 4, 2025.
Lisa Barton,
Secretary to the Commission.

[FR Doc. 2025-10393 Filed 6-6-25; 8:45 am]

BILLING CODE 7020-02-P